DEPARTMENT OF ENERGY

Federal Energy Regulatory Commission

[Docket No. CP00-233-000]

Southern Natural Gas Company; Notice of Application

May 9, 2000.

Take notice that on May 1, 2000, Southern Natural Gas Company, Post Office Box 2563, Birmingham, Alabama 35202-2563, filed an application in Docket No. CP00-233-000 pursuant to Section 7(c) of the Natural Gas Act (NGA), for a certificate of public convenience and necessity authorizing the construction and operation of natural gas pipeline, compression, measuring and other related facilities, all as more fully set forth in the application which is on file with the Commission and open to public inspection. This filing may be viewed on the web at http://www.ferc.us/online/rims.htm (call 202-208-2222).

Southern states that during November 1999, it announced an open season to obtain requests for additional firm service. It is stated that Southern Company Services, Inc. (SCS), South Carolina Pipeline Corporation (SCPC), and the City of LaGrange, Georgia (LaGrange) have subscribed for a total of 335,800 Mcf per day of firm transportation (FT) service on Southern's system, with shipper signing a service agreement with a 15-year term. To provide this FT service, Southern requests authorization to construct, install, and operate certain pipeline loops, compression, measurement, and appurtenant facilities in two phases. Southern indicates that Phase I will consist of the facilities necessary to provide 139,900 Mcf per day of transportation demand, with an in-service date of June 1, 2002. It is further stated that Phase II will consist of the facilities to provide the remaining transportation demand with an in-service date of June 1, 2003. Specifically, Southern requests authorization to construct, install, and operate the following:

Phase I: (1) approximately 5.67 miles of 30-inch South Main 3rd Loop Line extending in Clarke County, Mississippi; (2) approximately 5.0 miles of 30-inch South Main 3rd Loop Line in Sumter County, Alabama; (3) approximately 7.82 miles of 30-inch South Main 3rd Loop Line in Perry and Dallas Counties, Alabama; (4) approximately 7.97 miles of 30-inch South Main 3rd Loop Line in Dallas and Autauga Counties, Alabama; (5) approximately 5.96 miles of 30-inch South Main 4th Loop Line in Macon County, Alabama; (6) approximately 5.08 miles of 24-inch South Main 2nd Loop Line in Jefferson County, Georgia; (7) approximately 1.50 miles of 8-inch LaGrange Extension Loop Line in Lee County, Alabama; (8) install a Caterpillar 3616 high-speed reciprocating compression rated at 4,445 horsepower, replace existing primary pulsation bottles and make piping modifications at Enterprise Compressor Station in Clarke County, Mississippi; (9) reconfigure existing station piping for parallel operation (currently in series configuration), re-wheel existing Dresser-Rand compressors on the GE turbines, and install a Solar Centaur 40 (ISO rated at 4,700 horsepower) turbine-driven centrifugal compressor at York Compressor Station in Sumter County, Alabama; (10) reconfigure existing station piping for parallel operation (currently in series configuration) and re-wheel existing Dresser-Rand compressors on the GE turbines at Selma Compressor Station in Dallas County, Alabama; (11) reconfigure existing station piping for parallel operation (currently in series configuration), re-wheel existing Dresser-Rand compressors on the GE turbines, and install a Solar Taurus 70 (ISO rated at 10,310 horsepower) turbine-driven centrifugal compressor at Auburn Compressor Station in Lee County, Alabama; (12) install a Caterpillar 3616 high-speed reciprocating compressor, rated at 4,445 horsepower, at Thomaston Compressor Station in Upson County, Georgia; (13) interconnection facilities to provide SCS's Phase I transportation demand to the Goat Rock Plant located in Lee County, Alabama; and (14) measurement facilities to provide SCPC with its transportation demand in Aiken County, South Carolina.

Southern states that there are also non-jurisdictional facilities related to the Phase I Facilities. It is stated that Southern will construct facilities to enable delivery of gas to the Goat Rock Plant located in Lee County, Alabama. It is indicated that the Goat Rock Plant is a non-jurisdictional power plant to be constructed, owned and operated by one of the electric utility affiliates of SCS. Southern states that an affiliate of SCS also will construct and own a new meter station and approximately 5.07 miles of 20-inch connecting pipeline located between the Goat Rock Tap and the new meter station, with Southern operating the connecting pipe and meter station. Southern also states that SCPC will construct, own, and operate approximately 2.5 miles of 16-inch connecting pipeline.

Phase II: (1) approximately 10.39 miles of 30-inch South Main 3rd Loop Line extending Loop in Clarke and Lauderdale Counties, Mississippi; (2) approximately 10.54 miles of 30-inch South Main 3rd Loop Line extending Loop 2 in Sumter County, Alabama; (3) approximately 8.06 miles of 30-inch South Main 3rd Loop Line in Autauga County, Alabama; (4) approximately 5.0 miles of 30-inch South Main 4th Loop Line extending Loop 5 in Tallapoosa and Macon Counties, Alabama; (5) install a Solar Taurus 70 (ISO-rated at 10,310 horsepower) turbine-driven centrifugal compressor at Selma Compressor Station in Dallas County, Alabama; and (6) interconnection facilities to deliver 98 Mmcfd at the Autaugaville Plant in Autauga County, Alabama.

Southern indicates that there are also certain non-jurisdictional facilities related to the Phase II Facilities. Southern states that it will construct facilities to enable delivery of gas to the Autaugaville Plant located in Autauga County, Alabama. It is stated that the Autaugaville Plant is a non-jurisdictional power plant to be constructed, owned and operated by one of the electric utility affiliates of SCS. It is also stated that an affiliate of SCS also will construct and own a new meter station and approximately 11.2 miles of 20-inch pipeline located between the Autaugaville Tap and the new meter station. Southern states that it will operate the connecting pipe and meter station.

Southern states that the total cost of the facilities (Phases I and II) is estimated to be $147.3 million, to be financed initially through short term financing, available cash from operations or a combination of both, and ultimately through permanent financing. Southern requests that the Commission approve a predetermination of roll-in for the expansion in its next rate proceeding, citing both financial benefits to existing customers and system-wide operational benefits.

Southern is requesting that the Commission issue a Preliminary Determination on Non-environmental issues by December 1, 2000, with final approval on all issues by May 1, 2001.

Any person desiring to be heard or to make protest with reference to said application should on or before May 30, 2000, file with the Federal Energy Regulatory Commission, 888 First Street, NE, Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules.

A person obtaining intervenor status will be placed on the service list maintained by the Commission and will receive copies of all documents filed by the Applicant and by every one of the intervenors. Any intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to jurisdiction conferred upon the Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Southern to appear or be represented at the hearing.

David P. Boergers,
Secretary.

[FR Doc. 00-12080 Filed 5-12-00; 8:45 am]

BILLING CODE 6717-01-M